DEPARTMENT OF THE INTERIOR

National Park Service

Notice; Continuation of Visitor Services

AGENCY: National Park Service, Interior.

ACTION: Public notice.

SUMMARY: Pursuant to the terms of existing concession contracts, public notice is hereby given that the National Park Service has requested a continuation of visitor services for the following expiring concession contract for a period of 2 years until December 31, 2006, or until such time as a new contract is awarded, whichever occurs first.

SUPPLEMENTARY INFORMATION: The listed concession authorization expires on December 31, 2004. Under the provisions of current concession contracts and pending the development and public solicitation of a prospectus for a new concession contract, the National Park Service authorizes continuation of visitor services for a period not-to-exceed 2 years, or until such time as a new contract is awarded, whichever occurs first, under the terms and conditions of the current concession contract, as amended. The continuation of operations does not affect any rights with respect to selection for award of a new concession contract.

Concession Contract no. | Concessioner Name | Park
CC-LAME002 | Lake Mead RV Village | Lake Mead National Recreation Area

EFFECTIVE DATE: January 2, 2005.

FOR FURTHER INFORMATION CONTACT: Jo A. Pendry, Concession Program Manager, National Park Service, Washington, DC, 20240 Telephone 202/513-7156.

Dated: December 30, 2004.
Alfred J. Poole, III,
Acting Associate Director, Administration Business Practices and Workforce Development.

[FR Doc. 05-3335 Filed 2-18-05; 8:45 am]

BILLING CODE 4312-53-M